DEPARTMENT OF TRANSPORTATION

Federal Aviation Administration

Notice of Intent To Rule on Request To Release Airport Property Monroe Regional Airport, Monroe, LA

AGENCY: Federal Aviation Administration (FAA), DOT.

ACTION: Notice of request to release airport property.

SUMMARY: The FAA proposes to rule and invites public comment on the release of land at Monroe Regional Airport under the provisions of section 125 of the Wendell H. Ford Aviation Investment Reform Act for the 21st Century (AIR 21).

DATES: Comments must be received on or before February 11, 2005.

ADDRESSES: Comments on this application may be mailed or delivered to the FAA at the following address: Mr. Lacey D. Spriggs, Manager, Federal Aviation Administration, Southwest Region, Airports Division, Louisiana/New Mexico Airports Development Office, ASW-640, Forth Worth, Texas 76193-0640.

In addition, one copy of any comments submitted to the FAA must be mailed or delivered to Mayor James E. Mayo at the following address: Office of the Mayor, 400 Lee Joyner Expressway, Monroe, LA 71202.

FOR FURTHER INFORMATION CONTACT: Lacey P. Spriggs, Manager, Federal Aviation Administration, LA/NM Airports Development Office, ASW-640, 2601 Meacham Blvd., Forth Worth, Texas 76193-0640.

The request to release property may be reviewed in person at this same location.

SUPPLEMENTARY INFORMATION: THe FAA invites public comment on the request to release property at the Monroe Regional Airport under the provisions of the AIR 21.

On January 10, 2005, the FAA determined that the request to release property at Monroe Regional Airport submitted by the City of Monroe met the procedural requirements of the Federal Aviation Regulations, part 155. The FAA may approve the request, in whole or in part, no later than February 14, 2005.

The following is a brief overview of the request:

The City of Monroe, Louisiana, requests the release of 1.0 acre of airport property. The release of property will allow for construction of a new facility to house a radio station and office space for Media Ministries, Inc., to proceed. The sale is estimated to provide $33,000.00 whereas the proceeds will go for construction of various projects to include but not limited to a Department of Environmental Quality-approved washrack for aircraft and/or airport equipment, fencing to prevent entrance of wildlife and dump truck for maintenance of safety and drainage areas.

Any person may inspect the request in person at the FAA office listed above under FOR FURTHER INFORMATION CONTACT.

In addition, any person may, upon request, inspect the application, notice and other documents germane to the application in person at the Monroe Regional Airport, Monroe, Louisiana.

Issued in Forth Worth, Texas on January 10, 2005.
Rich Marinelli,
Acting Manager, Airports Division.

[FR Doc. 05-1470 Filed 1-26-05; 8:45 am]

BILLING CODE 4910-13-M